DEPARTMENT OF VETERANS AFFAIRS

Advisory Committee on Women Veterans; Notice of Meeting

The Department of Veterans Affairs gives notice under Public Law 92-463 (Federal Advisory Committee Act) that the Advisory Committee on Women Veterans will meet January 21-23, 2003, from 8:30 a.m. to 5 p.m. each day. The meeting will be held at the Department of Veterans Affairs, 810 Vermont Avenue, NW., Room 230, Washington, DC. The meeting is open to the public.

The purpose of the Committee is to advise the Secretary of Veterans Affairs regarding the needs of women veterans with respect to healthcare, rehabilitation, compensation, outreach, and other programs and activities administered by the VA designed to meet such needs. The Committee will make recommendations to the Secretary regarding such programs and activities.

On January 21, the agenda topics for this meeting will include briefings and updates on the Women Veterans Health Program, the National Survey of Veterans, Board of Veterans Appeals issues, legislative issues affecting women veterans, community-based outpatients clinics, and the National Women Veterans Study. On January 22, the Committee will be briefed on Committee requirements, compensation and pension benefits, VA-funded research on women veterans, the status of the VA Homeless Program and related issues that the Committee members may choose to introduce. On January 23, discussions will include briefings regarding the VA Domiciliary Programs and the 8 Comprehensive Women Veterans Health Centers. The Committee is tentatively scheduled for a briefing on Capitol Hill and from the Department of Labor, Veterans Employment and Training Service.

Any member of the public wishing to attend should contact Ms. Maryanne Carson, at the Department of Veterans Affairs, Center for Women Veterans (00W), 810 Vermont Avenue, NW., Washington, DC 20420. Ms. Carson may be contacted either by phone at (202) 273-6193, fax at (202) 273-7093 or e-mail at 00W@mail.va.gov. Interested persons may attend, appear before, or file statements with the Committee. Statements, if in written form, may be filed before the meeting, or within 10 days after the meeting.

Dated: December 23, 2002.
By Direction of the Secretary.
Nora E. Egan,
Committee Management Officer.

[FR Doc. 03-258 Filed 1-6-03; 8:45 am]

BILLING CODE 8320-01-M